NUCLEAR REGULATORY COMMISSION

[Docket No. 72-31]

Yankee Atomic Electric Company; Yankee Atomic Independent Spent Fuel Storage Installation; Issuance of Environmental Assessment and Finding of No Significant Impact

AGENCY: Nuclear Regulatory Commission.

ACTION: Issuance of environmental assessment and finding of no significant impact.

FOR FURTHER INFORMATION CONTACT: Stewart W. Brown, Senior Project Manager, Spent Fuel Project Office, Office of Nuclear Material Safety and Safeguards, U.S. Nuclear Regulatory Commission, Washington, DC 20555. Telephone: (301) 415-8531; Fax number: (301) 415-8555; E-mail: swb1@nrc.gov.

I. Introduction

The U.S. Nuclear Regulatory Commission (NRC) is considering issuance of exemptions to Yankee Atomic Electric Company (the licensee), pursuant to Title 10 of the Code of Federal Regulations (10 CFR) 72.7, from specific provisions of 10 CFR 72.212(a)(2), 72.212(b)(2)(i), 72.212(b)(7), and 72.214. The licensee is storing spent nuclear fuel under the general licensing provisions of 10 CFR part 72 in the NAC-MPC System at an independent spent fuel storage installation (ISFSI) located at the Yankee Atomic Electric Station in Rowe, Massachusetts. The requested exemptions would allow the licensee to deviate from requirements of the NAC-MPC Certificate of Compliance (CoC) No. 1025, Amendment 3, Appendix A, Technical Specifications for the NAC-MPC System, Section A 5.1, Training Program, and Section A 5.4, Radioactive Effluent Control Program. Specifically, the exemptions would relieve the licensee from the requirements to: (1) Develop training modules under its systems approach to training (SAT) program that include comprehensive instructions for the operation and maintenance of the ISFSI, except for the NAC-MPC System; and (2) submit an annual report “pursuant to 10 CFR 72.44(d)(3) or 10 CFR 50.36(a).”

II. Environmental Assessment (EA)

Identification of Proposed Action: The proposed action is to exempt the licensee from regulatory requirements to develop certain training and submit an annual report. By letter dated January 9, 2006, the licensee requested exemptions from certain regulatory requirements of 10 CFR 72.212(a)(2), 72.212(b)(2)(i), 72.212(b)(7), and 72.214, which require a general licensee to store spent fuel in an NRC-certified spent fuel storage cask under the terms and conditions set forth in the CoC. The proposed exemptions would allow the licensee to deviate from the requirements in CoC No. 1025, Amendment 3, Appendix A, Technical Specifications for the NAC-MPC System, Section A 5.1, Training Program, and Section A 5.4, Radioactive Effluent Control Program.

CoC No. 1025, Amendment 3, Appendix A, Technical Specifications for the NAC-MPC System, Section A 5.1, Training Program, requires that a training program for the NAC-MPC System be developed under the general licensee's SAT program. Further, the training modules must include comprehensive instructions for the operation and maintenance of both the NAC-MPC System and the ISFSI. In addition, CoC No. 1025, Amendment 3, Appendix A, Technical Specifications for the NAC-MPC System, Section A 5.4, Radioactive Effluent Control Program, Item c. requires an annual report to be submitted “pursuant to 10 CFR 72.44(d)(3) or 10 CFR 50.36(a).” By exempting the licensee from the requirements of 10 CFR 72.212(a), 72.212(b)(2)(i), 72.212(b)(7), and 72.214 for this request, the licensee will not be required to either develop training modules that include comprehensive instructions for the operation and maintenance of the ISFSI or submit an annual report “pursuant to 10 CFR 72.44(d)(3) or 10 CFR 50.36(a).”

The proposed action before the NRC is whether to grant these exemptions under the provisions of 10 CFR 72.7.

Need for the Proposed Action: The requirements of CoC No. 1025, Amendment 3, Appendix A, Technical Specifications for the NAC-MPC System, Section A 5.1, Training Program, and Section A 5.4, Radioactive Effluent Control Program impose regulatory obligations, with associated costs, that do not provide a commensurate increase in safety. Granting the requested exemptions will allow the licensee not to have to: (1) Develop training modules under the SAT program that include comprehensive instructions for the operation and maintenance of the ISFSI, except for the NAC-MPC System; and (2) submit an annual report “pursuant to 10 CFR 72.44(d)(3) or 10 CFR 50.36(a).” Thus, the licensee will not incur the costs associated with these activities.

Environmental Impacts of the Proposed Action: The NRC has reviewed the exemption requests submitted by the licensee and determined that not requiring the licensee to: (1) Develop training modules under its SAT program that include comprehensive instructions for the operation and maintenance of the ISFSI, except for the NAC-MPC System; and (2) submit an annual report “pursuant to 10 CFR 72.44(d)(3) or 10 CFR 50.36(a)” are administrative changes, and would have no significant impacts to the environment.

Further, NRC has evaluated the impact to public safety that would result from granting the requested exemptions. NRC determined that requiring the licensee to develop training modules under its SAT program for the operation and maintenance of ISFSI structures, systems, and components considered not-important-to-safety would not provide a commensurate increase in public safety associated with the costs. Therefore, allowing the licensee to develop these modules separately from its SAT program does not impact public safety. Also, NRC has determined that not requiring the licensee to submit an annual report specifying principal radionuclides released to the environment in liquid and in gaseous effluents does not impact public safety because the NAC-MPC System is a sealed and leak-tight spent fuel storage system. Thus, there should be no releases to the environment of either liquid or gaseous effluents from normal operation of the NAC-MPC System.

The proposed action would not increase the probability or consequences of accidents, no changes would be made to the types of effluents that may be released offsite, and there would be no increase in occupational or public radiation exposure. Therefore, there are no significant radiological environmental impacts associated with the proposed action. Additionally the proposed action would have no significant non-radiological impacts.

Alternative to the Proposed Action: The alternative to the proposed action would be to deny approval of these exemptions. Denial of these exemption requests would have the same environmental impact as the proposed action.

Agencies and Persons Consulted: The NRC prepared this EA. No other sources were used. Further, The NRC has determined that a consultation under section 7 of the Endangered Species Act is not required because the proposed action will not affect listed species or critical habitats. The NRC has also determined that the proposed action is not a type of activity having the potential to cause effects on historic properties. Therefore, no consultation is required under section 106 of the National Historic Preservation Act. Also, a draft copy of this EA was provided to the Massachusetts Radiation Control Program for review. The Massachusetts Radiation Control Program had no comments.

Conclusions: The NRC has concluded that the proposed action of granting these exemptions and not requiring the licensee to develop certain training or submit an annual report will not significantly impact the quality of the human environment and does not warrant the preparation of an environmental impact statement. Accordingly, it has been determined that a Finding of No Significant Impact is appropriate.

III. Finding of No Significant Impact

The environmental impacts of the proposed action have been reviewed in accordance with the requirements set forth in 10 CFR part 51. Based upon the foregoing EA, the NRC finds that the proposed action of granting exemptions from the specific provisions of 10 CFR 72.212(a), 72.212(b)(2)(i), 72.212(b)(7), and 72.214 and not requiring the licensee to: (1) Develop training modules under its SAT program that include comprehensive instructions for the operation and maintenance of the ISFSI, except for the NAC-MPC System; and (2) submit an annual report “pursuant to 10 CFR 72.44(d)(3) or 10 CFR 50.36(a),” will not significantly impact the quality of the human environment. Accordingly, the NRC has determined that an environmental impact statement for these proposed exemptions is not warranted.

FOR FURTHER INFORMATION CONTACT: In accordance with 10 CFR 2.390 of NRC's “Rules of Practice,” final NRC records and documents regarding this proposed action, including the request for exemptions dated January 9, 2006, are publically available in the records component of NRC's Agencywide Documents Access and Management System (ADAMS). These documents may be inspected at NRC's Public Electronic Reading Room at http://www.nrc.gov/reading-rm/adams.html. These documents may also be viewed electronically on the public computers located at the NRC's Public Document Room (PDR), O1F21, One White Flint North, 11555 Rockville Pike, Rockville, MD 20852. The PDR reproduction contractor will copy documents for a fee. Persons who do not have access to ADAMS or who encounter problems in accessing the documents located in ADAMS, should contact the NRC PDR Reference staff by telephone at 1-800-397-4209 or (301) 415-4737, or by e-mail to pdr@nrc.gov.

Dated at Rockville, Maryland, this 24th day of May, 2006.
For the Nuclear Regulatory Commission.
Stewart W. Brown,
Sr. Project Manager, Spent Fuel Project Office, Office of Nuclear Material Safety and Safeguards.

[FR Doc. E6-8650 Filed 6-2-06; 8:45 am]

BILLING CODE 7590-01-P